DEPARTMENT OF THE INTERIOR

National Park Service

[NPS-WASO-NAGPRA-NPS0036253; PPWOCRADN0-PCU00RP14.R50000]

Notice of Inventory Completion: Robert S. Peabody Institute of Archaeology, Andover, MA

AGENCY: National Park Service, Interior.

ACTION: Notice.

SUMMARY: In accordance with the Native American Graves Protection and Repatriation Act (NAGPRA), the Robert S. Peabody Institute of Archaeology has completed an inventory of associated funerary objects and has determined that there is a cultural affiliation between the associated funerary objects and Indian Tribes or Native Hawaiian organizations in this notice. The associated funerary objects were removed from Essex County, MA.

DATES: Repatriation of the associated funerary objects in this notice may occur on or after August 28, 2023.

ADDRESSES: Ryan Wheeler, Robert S. Peabody Institute of Archaeology, Phillips Academy, 180 Main Street, Andover, MA 01810, telephone (978) 749-4493, email rwheeler@andover.edu.

SUPPLEMENTARY INFORMATION: This notice is published as part of the National Park Service's administrative responsibilities under NAGPRA. The determinations in this notice are the sole responsibility of the Robert S. Peabody Institute of Archaeology. The National Park Service is not responsible for the determinations in this notice. Additional information on the determinations in this notice, including the results of consultation, can be found in the inventory or related records held by the Robert S. Peabody Institute of Archaeology.

Description

In 1890, Dr. F. Humphrey removed human remains and associated funerary objects from an unknown site in Ipswich, Essex County, MA. Subsequently, he transferred them to the Robert S. Peabody Institute of Archaeology. In 1963, the Robert S. Peabody Institute of Archaeology transferred the human remains associated with the funerary objects to the Harvard Peabody Museum of Archaeology & Ethnology (see 87 FR 69317-69326, November 18, 2022). The 32 associated funerary objects are one stone adze; two stone axes; two chipped stone objects; one bone fish hook; two stone gouges; three grooved stones; five ground stone objects; five hammer stones; two modified stones; two stone pestles; five stone plummets; one roundstone; and one soapstone fragment.

At unknown date, Thomas Clegg removed human remains and associated funerary objects from the Merrimac Valley near Lawrence, Essex County, MA. Subsequently, he transferred them to the Robert S. Peabody Institute of Archaeology. In 1963, the Robert S. Peabody Institute of Archaeology transferred the human remains associated with the funerary objects to the Harvard Peabody Museum of Archaeology & Ethnology (see 87 FR 69317-69326, November 18, 2022). The 17 associated funerary objects are one broken gouge; one fragment of a ground stone object; one lot consisting of ceramic sherds; six lots consisting of chipped objects and object fragments; one lot consisting of points and point fragments; one lot consisting of stone bifaces; one lot consisting of stone drills; one lot consisting of stone points and fragments; one perforated stone; one perforated stone or pendant; one soapstone fragment; and one stone knife.

Cultural Affiliation

The associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: archeological, biological, geographical, historical, linguistic, oral traditional, and expert opinion.

Determinations

Pursuant to NAGPRA and its implementing regulations, and after consultation with the appropriate Indian Tribes and Native Hawaiian organizations, the Robert S. Peabody Institute of Archaeology has determined that:

• The 49 objects described in this notice are reasonably believed to have been placed with or near individual human remains at the time of death or later as part of the death rite or ceremony.

• There is a relationship of shared group identity that can be reasonably traced between the associated funerary objects described in this notice and the Mashpee Wampanoag Tribe and the Wampanoag Tribe of Gay Head (Aquinnah).

Requests for Repatriation

Written requests for repatriation of the associated funerary objects in this notice must be sent to the Responsible Official identified in ADDRESSES. Requests for repatriation may be submitted by:

1. Any one or more of the Indian Tribes identified in this notice and, if joined to a request from one or more of the Indian Tribes, the Assonet Band of the Wampanoag Nation, a non-federally recognized Indian group.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after August 28, 2023. If competing requests for repatriation are received, the Robert S. Peabody Institute of Archaeology must determine the most appropriate requestor prior to repatriation. Requests for joint repatriation of the associated funerary objects are considered a single request and not competing requests. The Robert S. Peabody Institute of Archaeology is responsible for sending a copy of this notice to the Indian Tribes identified in this notice.

Authority: Native American Graves Protection and Repatriation Act, 25 U.S.C. 3003, and the implementing regulations, 43 CFR 10.9, 10.10, and 10.14.

Dated: July 19, 2023.
Melanie O'Brien,
Manager, National NAGPRA Program.

[FR Doc. 2023-16065 Filed 7-27-23; 8:45 am]

BILLING CODE 4312-52-P